DEPARTMENT OF ENERGY

Federal Energy Regulatory Commission

[Docket No. EL01-3-000]

Morgan Stanley Capital Group Inc., Complainant v. PJM Interconnection, L.L.C., Respondent; Notice of Filing

October 11, 2000.

Take notice that on October 6, 2000, Morgan Stanley Capital Group Inc. (MSCG), tendered for filing a complaint pursuant to Section 206 of the Federal Power Act against PJM Interconnection, L.L.C. (PJM) alleging that, in order to advance the Commission's goal of regional uniformity and coordination and to avoid other market problems, PJM should eliminate (1) its bid cap by the end of October 2000, to coincide with the expiration of the New York and New England bid caps and (2) eliminate its ICAP requirement and deficiency charge commensurate with ISO-NE's actions to date. Given the immediacy of this date, MSCG requests fast track procession of its complaint by the Commission.

Copies of the filing were served upon PJM and other interested parties.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 25, 2000. Protests will be considered by the Commission in determining the appropriate action to be taken, but will not serve to make protestants parties to the proceeding. Any person wishing to become a party must file a motion to intervene. Copies of this filing are on file with the Commission and are available for public inspection in the Public Reference Room. This filing may also be viewed on the Internet a http://www.ferc.fed.us/online/rims.htm (call 202-208-2222) for assistance. Answers to the complaint shall also be due on or before October 26, 2000.

David P. Boergers,
Secretary.

[FR Doc. 00-26618 Filed 10-16-00; 8:45 am]

BILLING CODE 6717-01-M